SURFACE TRANSPORTATION BOARD

[Docket No. FD 36361]

Perry County Railroad, LLC—Lease and Operation Exemption—Howling Coyote, LLC and Perry County Associates, LLC

Perry County Railroad, LLC (PCR), a noncarrier, has filed a verified notice of exemption under 49 CFR 1150.31 to lease and operate approximately 20,700 feet, or 3.92 miles, of track (the Line) owned by Howling Coyote, LLC and Perry County Associates, LLC (the Owners) in the Perry County Industrial Park (the Park), in Perry County, Ala. There are no mileposts on the Line.

According to PCR, the Line is currently used to receive rail cars of material bound to the Owners' landfill. PCR states that the cars are delivered onto the property by Norfolk Southern Railroad (NSR) and are switched by the Owners for material handling. PCR states that the Owners seek to retain a rail carrier to take over the onsite rail operation and to serve any future tenants of the Park. According to PCR, the Owners have leased the Line and the land in the Park to PCR to start service when this exemption becomes effective.

PCR certifies that, as a result of the proposed transaction, its projected revenue will not exceed that of a Class III carrier and will not exceed $5 million annually. PCR states that the proposed transaction does not contain any limit on future interchange with third-party connecting carriers.

The proposed transaction may be consummated on or after November 9, 2019, the effective date for the exemption (30 days after the verified notice was filed).¹

¹ The date of PCR's supplement (October 10, 2019) will be considered the filing date for the purpose of calculating the effective date of the exemption.

If the verified notice contains false or misleading information, the exemption is void ab initio. Petitions to revoke the exemption under 49 U.S.C. 10502(d) may be filed at any time. The filing of a petition to revoke will not automatically stay the effectiveness of the exemption. Petitions for stay must be filed no later than November 1, 2019 (at least seven days before the exemption becomes effective).

All pleadings, referring to Docket No. FD 36361, must be filed with Surface Transportation Board either via e-filing or in writing addressed to 395 E Street SW, Washington, DC 20423-0001. In addition, a copy of each pleading must be served on PCR's representative, John F. McHugh, 233 Broadway, Suite 2320, New York, NY 10279.

According to PCR, this action is categorically excluded from environmental review under 49 CFR 1105.6(c) and from historic reporting requirements under 49 CFR 1105.8(b).

Board decisions and notices are available at www.stb.gov.

Decided: October 22, 2019.
By the Board, Allison C. Davis, Director, Office of Proceedings.
Regena Smith-Bernard,
Clearance Clerk.

[FR Doc. 2019-23374 Filed 10-24-19; 8:45 am]

BILLING CODE 4915-01-P